DEPARTMENT OF DEFENSE

Department of the Air Force

AFIT Subcommittee of the Air University Board of Visitors; Notice of Meeting

The Air Force Institute of Technology Subcommittee of the Air University Board of Visitors will hold an open meeting on 15-16 March 2004, with the first business session beginning at 0830 in the Superintendent's Conference Room, Hermann Hall, Naval Postgraduate School, Monterey, California (5 seats available).

The purpose of the meeting is to give the board an opportunity to review Air Force Institute of Technology's educational programs and to present to the Commandant a report of their findings and recommendations concerning these programs.

For further information on this meeting, contact Ms. Beverly Houtz, Academic Affairs, Air Force Institute of Technology, (937) 255-4808.

Pamela D. Fitzgerald,
Air Force Federal Register Liaison Officer.

[FR Doc. 04-4665 Filed 3-2-04; 8:45 am]

BILLING CODE 5001-05-P